DEPARTMENT OF THE INTERIOR

National Park Service

Notice of Inventory Completion: Riverside Metropolitan Museum, Riverside, CA

AGENCY: National Park Service, Interior.

ACTION: Notice.

Notice is here given in accordance with the Native American Graves Protection and Repatriation Act (NAGPRA), 25 U.S.C. 3003, of the completion of an inventory of human remains and associated funerary object in the control of the Riverside Metropolitan Museum, Riverside, CA. The human remains were removed from Santa Barbara County, CA.

This notice is published as part of the National Park Service's administrative responsibilities under NAGPRA, 25 U.S.C. 3003 (d)(3). The determinations in this notice are the sole responsibility of the museum, institution, or Federal agency that has control of the Native American human remains and associated funerary object. The National Park Service is not responsible for the determinations in this notice.

A detailed assessment of the human remains was made by the Riverside Metropolitan Museum professional staff in consultation with the Santa Ynez Band of Chumash Mission Indians of the Santa Ynez Reservation, California.

At an unknown date, human remains representing a minimum of one individual were removed from the site for the Potter Hotel, Santa Barbara, Santa Barbara County, CA, during the excavation for the construction of the hotel. Cornelius E. Rumsey donated the human remains to the Riverside Metropolitan Museum in 1925. No known individual was identified. The one associated funerary object is a stone pestle.

Historic records identify the Chumash Indians as the inhabitants of the Santa Barbara area.

In 1949, human remains representing a minimum of one individual were removed from an unknown burial on San Miguel Island, Channel Islands, Santa Barbara County, CA. Oscar Perrine donated the human remains to the Riverside Metropolitan Museum in 1962. No known individual was identified. No associated funerary objects are present.

San Miguel Island is one of the Channel Islands, which are historically associated with the Island Chumash people. Archeologists have suggested that there is considerable cultural continuity in this area. The establishment of Spanish missions resulted in the dispersal of the Island Chumash. The 109 Chumash Indians, who settled on the small plot of land near the Santa Ynez Mission given to them in 1855, support a historical connection between the present-day Santa Ynez Band of Chumash Mission Indians of the Santa Ynez Reservation, California, and the Island Chumash people.

Based on collections research, geographic location, and historic documentation, the human remains are of Chumash origin. Descendants of the Chumash are members of the Federally-recognized Santa Ynez Band of Chumash Mission Indians of the Santa Ynez Reservation, California.

Officials of the Riverside Metropolitan Museum have determined that, pursuant to 25 U.S.C. 3001 (9-10), the human remains described above represent the physical remains of two individuals of Native American ancestry. Officials of the Riverside Metropolitan Museum also have determined that, pursuant to 25 U.S.C. 3001 (3)(A), the one object described above is reasonably believed to have been placed with or near individual human remains at the time of death or later as part of the death rite or ceremony. Lastly, officials of the Riverside Metropolitan Museum have determined that, pursuant to 25 U.S.C. 3001 (2), there is a relationship of shared group identity that can be reasonably traced between the Native American human remains and associated funerary object and the Santa Ynez Band of Chumash Mission Indians of the Santa Ynez Reservation, California.

Representatives of any other Indian tribe that believes itself to be culturally affiliated with the human remains and associated funerary object should contact Ennette Morton, Museum Director, Riverside Metropolitan Museum, 3580 Mission Inn Avenue, Riverside, CA 92501, telephone (951) 826-5273, before November 12, 2009. Repatriation of the human remains and associated funerary object to the Santa Ynez Band of Chumash Mission Indians of the Santa Ynez Reservation, California may proceed after that date if no additional claimants come forward.

The Riverside Metropolitan Museum is responsible for notifying the Santa Ynez Band of Chumash Mission Indians of the Santa Ynez Reservation, California that this notice has been published.

Dated: September 8, 2009
Sherry Hutt,
Manager, National NAGPRA Program.

[FR Doc. E9-24593 Filed 10-9-09; 8:45 am]

BILLING CODE 4312-50-S